SMALL BUSINESS ADMINISTRATION

[License No. 02/02-0695]

QS Capital Strategies II, L.P.; Notice Seeking Exemption Under Section 312 of the Small Business Investment Act, Conflicts of Interest

Notice is hereby given that QS Capital Strategies II, L.P., 527 Madison Avenue, 11th Floor, New York, NY 10022, a Federal Licensee under the Small Business Investment Act of 1958, as amended (“the Act”), in connection with the financing of a small concerns, has sought an exemption under Section 312 of the Act and Section 107.730, Financings which Constitute Conflicts of Interest of the Small Business Administration (“SBA”) Rules and Regulations (13 CFR 107.730). QS Capital Strategies II, L.P. is proposing to provide financing to BrandMuscle, Inc. to support the Company's growth.

The proposed transaction is brought within the purview of § 107.730 of the Regulations because QS Capital Strategies, L.P., an Associate of QS Capital Strategies II, L.P., by virtue of Common Control as defined at § 107.50, holds a debt investment in BrandMuscle, Inc. and the proposed transaction would discharge an obligation to an Associate.

Therefore, the proposed transaction is considered self-deal pursuant to 13 CFR 107.730 and requires a regulatory exemption. Notice is hereby given that any interested person may submit written comments on the transaction within fifteen days of the date of this publication to Associate Administrator for Investment, U.S. Small Business Administration, 409 Third Street SW, Washington, DC 20416.

Thomas Morris,
Acting Associate Administrator, Director, Office of SBIC Liquidation, Office of Investment and Innovation.

[FR Doc. 2021-11503 Filed 6-1-21; 8:45 am]

BILLING CODE P